DEPARTMENT OF COMMERCE

International Trade Administration

[C-570-163]

Certain Glass Wine Bottles From the People's Republic of China: Postponement of Preliminary Determination in the Countervailing Duty Investigation

AGENCY: Enforcement and Compliance, International Trade Administration, Department of Commerce.

DATES: Applicable March 8, 2024.

FOR FURTHER INFORMATION CONTACT: Preston Cox, Scarlet Jaldin, or Theodora Mattei, AD/CVD Operations, Enforcement and Compliance, International Trade Administration, U.S. Department of Commerce, 1401 Constitution Avenue NW, Washington, DC 20230; telephone: (202) 482-5041, 202-482-4275, or (202) 482-4834, respectively.

SUPPLEMENTARY INFORMATION:

Background

On January 18, 2024, the U.S. Department of Commerce (Commerce) initiated a countervailing duty (CVD) investigation on imports of certain glass wine bottles (wine bottles) from the People's Republic of China.¹ Currently, the preliminary determination is due no later than March 25, 2024.²

¹ See Certain Glass Wine Bottles from the People's Republic of China: Initiation of Countervailing Duty Investigation, 89 FR 4905 (January 25, 2024).

² The deadline for the preliminary determination, 65 days after initiation, is March 23, 2024, which is a Saturday. Commerce's practice dictates that, when a deadline falls on a weekend or Federal holiday, the appropriate deadline is the next business day, in this case Monday, March 25, 2024. See Notice of Clarification: Application of “Next Business Day” Rule for Administrative Determination Deadlines Pursuant to the Tariff Act of 1930, As Amended, 70 FR 24533 (May 10, 2005) (Next Business Day Rule).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated an investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 29, 2024, the U.S. Glass Producers Coalition (the petitioner) timely filed a request for Commerce to postpone the preliminary CVD determination.³ The petitioner requested postponement of the preliminary determination because Commerce needs additional time to collect and analyze questionnaire responses from the Government of China and the mandatory respondents in this investigation, given the complexity of the issues presented and the number of subsidy programs under investigation, and to issue supplemental questionnaires.⁴

³ See Petitioner's Letter, “Request for Postponement of the Preliminary Determination,” dated February 29, 2024.

⁴ Id.

In accordance with 19 CFR 351.205(e), the petitioner has stated the reasons for requesting a postponement of the preliminary determination, and Commerce finds there are no compelling reasons to deny the request. Therefore, in accordance with section 703(c)(1)(A) of the Act, Commerce is postponing the deadline for the preliminary determination to no later than 130 days after the date on which this investigation was initiated, i.e., May 28, 2024.⁵ Pursuant to section 705(a)(1) of the Act and 19 CFR 351.210(b)(1), the deadline for the final determination of this investigation will continue to be 75 days after the date of the preliminary determination.

⁵ Postponing the preliminary determination to 130 days after initiation would place the deadline on May 27, 2024, which is a Federal holiday. Therefore, the appropriate deadline is the next business day, in this case Tuesday, May 28, 2024. See Next Business Day Rule.

Notification to Interested Parties

This notice is issued and published pursuant to section 703(c)(2) of the Act and 19 CFR 351.205(f)(1).

Dated: March 4, 2024.
Ryan Majerus,
Deputy Assistant Secretary for Policy and Negotiations, performing the non-exclusive functions and duties of the Assistant Secretary for Enforcement and Compliance.

[FR Doc. 2024-04979 Filed 3-7-24; 8:45 am]

BILLING CODE 3510-DS-P